DEPARTMENT OF COMMERCE

National Oceanic and Atmospheric Administration

50 CFR Part 648

[Docket No. 001127331-1044-02; I.D. 052301B]

Fisheries of the Northeastern United States; Atlantic Mackerel, Squid, and Butterfish Fisheries; Closure of Fishery for Loligo Squid

AGENCY: National Marine Fisheries Service (NMFS), National Oceanic and Atmospheric Administration (NOAA), Commerce.

ACTION: Closure.

SUMMARY: NMFS announces that the directed fishery for Loligo squid in the exclusive economic zone (EEZ) for the second quarter of the year is closed. Vessels issued a Federal permit to harvest Loligo squid may not retain or land more than 2,500 lb (1.13 mt) per trip per calendar day of Loligo squid for the remainder of the quarter. This action is necessary to prevent the fishery from exceeding the Quarter II quota and allow for rebuilding of this overfished stock, while allowing for fishing throughout the year.

DATES: Effective 0001 hours, May 29, 2001, through 2400 hours, July 1, 2001.

FOR FURTHER INFORMATION CONTACT: Myles Raizin, Fishery Policy Analyst, 508-281-9104, fax 978-281-9135, e-mail myles.a.raizin.gov.

SUPPLEMENTARY INFORMATION: Regulations governing the Loligo squid fishery are found at 50 CFR part 648. The regulations require specifications for maximum optimal yield, initial optimum yield, allowable biological catch, domestic annual harvest (DAH), domestic annual processing, joint venture processing and total allowable levels of foreign fishing for the species managed under the Atlantic Mackerel, Squid, and Butterfish Fishery Management Plan. The procedures for setting the annual initial specifications are described in § 648.21.

The 2001 specification of DAH for Loligo squid was set at 17,000 mt (66 FR 13024, March 2, 2001). This amount is allocated by quarter, based on the following table.

Table. Loligo Quarterly Allocations
Quarter | Percent | Metric Tons
I (Jan-Mar) | 33.23 | 5,649
II (Apr-Jun) | 17.61 | 2,994
III (Jul-Sep) | 17.30 | 2,941
IV (Oct-Dec) | 31.86 | 5,416
Total | 100.00 | 17,000

Section 648.22 requires NMFS to close the directed Loligo squid fishery in the EEZ when 80 percent of the quarterly allocation is harvested in Quarters I, II and III, and when 95 percent of the total annual DAH has been harvested. NMFS is further required to: Notify, in advance of the closure, the Executive Directors of the Mid-Atlantic, New England, and South Atlantic Fishery Management Councils; mail notification of the closure to all holders of Loligo squid permits at least 72 hours before the effective date of the closure; provide adequate notice of the closure to recreational participants in the fishery; and publish notification of the closure in the Federal Register. The Administrator, Northeast Region, NMFS, based on dealer reports and other available information, has determined that 80 percent of the DAH for Loligo squid in Quarter II, has been harvested. Therefore, effective 0001 hours, May 29, 2001, the directed fishery for Loligo squid is closed and vessels issued Federal permits for Loligo squid may not retain or land more than 2,500 lb (1.13 mt) of Loligo. Such vessels may not land more than 2,500 lb (1.13 mt) of Loligo during a calendar day. The directed fishery will reopen effective 0001 hours, July 1, 2001, when the Quarter III quota becomes available.

Classification

This action is required by 50 CFR part 648 and is exempt from review under Executive Order 12866.

Authority: 16 U.S.C. 1801 et seq.

Dated: May 24, 2001.
Richard W. Surdi,
Acting Director, Office of Sustainable Fisheries, National Marine Fisheries Service.

[FR Doc. 01-13534 Filed 5-24-01; 3:13 pm]

BILLING CODE 3510-22-S